Proclamation 8168 of August 21, 2007

Constitution Day and Citizenship Day, Constitution Week, 2007

By the President of the United States of America

A Proclamation

On Constitution Day and Citizenship Day and during Constitution Week, we celebrate the anniversary of our Nation's Constitution and honor the Framers who created the landmark document that continues to guide our Nation.

In the summer of 1787, delegates convened in Philadelphia to create “a more perfect Union” and craft the document that is the foundation of our country. With great diligence, they worked to develop a framework that would balance authority and inherent freedoms, Federal interests and State powers, individual rights and national unity. On September 17th of the same year, the delegates signed the Constitution of the United States.

Today, every American shares in this legacy of liberty, and we are grateful for the courage, conviction, and sacrifice of all those who have helped preserve and uphold the principles of a free society. As we remember the enduring importance of the Constitution, we also recognize our responsibility as citizens to respect and defend the values of our founding and participate in the unfolding story of freedom.

In celebration of the signing of the Constitution and in recognition of the Americans who strive to uphold the duties and responsibilities of citizenship, the Congress, by joint resolution of February 29, 1952 (36 U.S.C. 106, as amended), designated September 17 as “Constitution Day and Citizenship Day,” and by joint resolution of August 2, 1956 (36 U.S.C. 108, as amended), requested that the President proclaim the week beginning September 17 and ending September 23 of each year as “Constitution Week.”

NOW, THEREFORE, I, GEORGE W. BUSH, President of the United States of America, do hereby proclaim September 17, 2007, as Constitution Day and Citizenship Day, and September 17 through September 23, 2007, as Constitution Week. I encourage Federal, State, and local officials, as well as leaders of civic, social, and educational organizations, to conduct ceremonies and programs that celebrate our Constitution and reaffirm our rights and responsibilities as citizens of our great Nation.

IN WITNESS WHEREOF, I have hereunto set my hand this twenty-first day of August, in the year of our Lord two thousand seven, and of the Independence of the United States of America the two hundred and thirty-second.

[FR Doc. 07-4199

Filed 8-23-07; 8:52 am]

Billing code 3195-01-P